DEPARTMENT OF DEFENSE

Department of the Army, Corps of Engineers

Intent To Prepare a Draft Environmental Impact Statement for the Amite River and Tributaries-East of the Mississippi River, Louisiana, Flood Risk Management Feasibility Study

AGENCY: Department of the Army, U.S. Army Corps of Engineers, DoD.

ACTION: Notice of intent.

SUMMARY: Pursuant to the National Environmental Policy Act (NEPA), the U.S. Army Corps of Engineers, New Orleans District (USACE) intends to prepare a Draft Integrated Feasibility Report and Environmental Impact Statement (DIFR-EIS) to assess the potential social, economic, and environmental impacts associated with the proposed project titled, “Amite River and Tributaries—East of the Mississippi River, Louisiana, Flood Risk Management Feasibility Study.” The DIFR-EIS will document the existing conditions of environmental resources in and around areas considered for construction, and potential impacts on those resources as a result of implementing the alternatives.

DATES: A Scoping Meeting Notice announcing the locations, dates and times for scoping meetings is anticipated to be posted on the project website, https://www.mvn.usace.army.mil/About/Projects/BBA-2018/studies/ and published in the local newspapers no later than 15 days prior to the meeting dates.

ADDRESSES: Ms. Kaitlyn Carriere, CEMVN-PMR, Room 331, 7400 Leake Avenue, New Orleans, LA 70118. AmiteFS@usace.army.mil.

FOR FURTHER INFORMATION CONTACT: If you have questions or comments about the proposed action or would like to be added to the project mailing list, please call Ms. Kaitlyn Carriere at (504) 862-1798. For additional information, please visit the following https://www.mvn.usace.army.mil/About/Projects/BBA-2018/studies/.

SUPPLEMENTARY INFORMATION: The lead agency for this proposed action is the USACE. Louisiana Department of Transportation and Development (LDOTD) is the non-Federal sponsor.

1. Authority. The USACE is preparing the DIFR-EIS study under the standing authority of Bipartisan Budget Act of 2018, (Pub. L. 115-123), Division B, Subdivision 1, H. R. 1892—13, Title IV, Corps Of Engineers—Civil, Department Of The Army, Investigations. The Bipartisan Budget Act authorizes the USACE proposed Amite River and Tributaries—East of the Mississippi River, Louisiana, Flood Risk Management Feasibility Study planning and potential construction project. The study phase is 100% federal funding.

2. Background. The study area, which includes the Amite River Basin, encompasses an area of approximately 3,450 square miles consisting of 8 Louisiana parishes (East Feleciana, St. Helena, East Baton Rouge, Livingston, Iberville, Ascension, St. James, and St. John the Baptist), Maurepas Lake, and 4 Mississippi counties (Amite, Wilkinson, Franklin, and Lincoln). Over three-fourths of the study area lies in the parishes of southeastern Louisiana, located east of the Mississippi River and north of Lake Maurepas. The upper one-fourth of the study area's drainage area lies in the southwestern Mississippi counties.

The Amite River and its tributaries has caused flood damages to industrial, commercial, agricultural facilities, and residential and nonresidential structures. As recently as August 2016, the President issued disaster declarations for parishes in the Amite River Basin due to impacts from “The Great Flood of 2016”. The flood was responsible for 13 deaths and the rescue of at least 19,000 people. The study area experienced historic flooding to thousands of homes and businesses and impacts to the Nation's critical infrastructure because both the I-10 and I-12 transportation system were shutdown for days. Major urban centers in the basin saw significant flooding well outside of normal flood stages.

The Amite River Basin primarily has flooding from two different sources. The Upper Basin flooding is caused from headwater flooding from rainfall events. The lower basin flooding is caused by a combination of drainage from headwaters and backwater flooding from tides and wind setup. Critical infrastructure throughout the region, includes the I-10 and I-12 transportation system, government facilities, and schools are expected to have increased risk of damage from rainfall damage from rainfall events as a result of climate change.

The USACE will focus their analysis on the following resources as applicable: Aesthetics and visual resources, water quality, aquatic resources/wetlands, fish and wildlife resources, threatened/endangered species and other protected species of concern, cultural & historic resources and tribal trust resources, floodplains, hazardous, toxic & radioactive waste, hydrology, land use, navigation and public infrastructure, socio-economics, environmental justice and soils.

3. Alternatives. The USACE will evaluate a range of alternatives for the proposed action including structural and nonstructural measures. For the reasonable and practicable alternatives, the USACE will fully evaluate them, including the no action alternative. Alternatives may result in avoidance and minimization, and mitigation measures of impacts to reduce or offset any impacts.

4. Public Involvement. Public involvement, an essential part of the NEPA process, is integral to assessing the environmental consequences of the proposed action and improving the quality of the environmental decision making. The public includes affected and interested Federal, state, and local agencies, Indian tribes, concerned citizens, stakeholders, and other interested parties. Public participation in the NEPA process will be strongly encouraged, both formally and informally, to enhance the probability of a more technically accurate, economically feasible, and socially acceptable EIS. Public involvement will include, but is not limited to: Information dissemination; identification of problems, needs and opportunities; idea generation; public education; problem solving; providing feedback on proposals; evaluation of alternatives; conflict resolution; public and scoping notices and meetings; public, stakeholder and advisory groups consultation and meetings; and making the EIS and supporting information readily available in conveniently located places, such as libraries and on the world wide web.

5. Scoping. Scoping, an early and open process for identifying the scope of significant issues related to the proposed action to be addressed in the EIS, will be used to: (a) identify the affected public and agency concerns; (b) facilitate an efficient EIS preparation process; (c) define the issues and alternatives that will be examined in detail in the EIS; and (d) save time in the overall process by helping to ensure that the draft EIS adequately addresses relevant issues. A Scoping Meeting Notice announcing the locations, dates and times for scoping meetings is anticipated to be posted on the project website, https://www.mvn.usace.army.mil/About/Projects/BBA-2018/studies/ and published in the local newspapers no later than 15 days prior to the meeting dates.

6. Coordination. The USACE will serve as the lead Federal agency in the preparation of the EIS. Other federal and/or state agencies may participate as cooperating and/or commenting agencies throughout the EIS process.

In accordance with Executive order, 1307, referred to as One Federal Decision (OFD), the USACE and other agencies with environmental review, authorization, or consultation responsibilities for major infrastructure projects should develop a single EIS for such projects, sign a single Record of Decision (ROD) and issue all necessary authorizations within 90 days thereafter, subject to limited exceptions. An essential element of the OFD framework is the development of a schedule, referred to the “Permitting Timetable,” including key milestones critical to completion of the environmental review and issuance of a ROD. Cooperating agencies required by law to develop schedules for environmental review or authorization processes should transmit a summary of such schedules to the lead agency for integration into the Permitting Timetable.

To ensure timely completion of the environmental review and issuance of necessary authorizations, OMB and CEQ recommend the Permitting Timetable for major infrastructure projects provide for environmental review according to the following schedule:

(1) Formal scoping and preparation of a Draft EIS (DEIS) within 14 months, beginning on the date of publication of the NOI to publish an EIS and ending on the date of the Notice of Availability of the DEIS;

(2) Completion of the formal public comment period and development of the Final EIS (FEIS) within eight months of the date of the Notice of Availability of the DEIS; and

(3) Publication of the final ROD within two months of the publication of the Notice of Availability of the FEIS.

While the actual schedule for any given project may vary based upon the circumstances of the project and applicable law, agencies should endeavor to meet the two-year goal established in E.O. 13807.

The U.S. Fish and Wildlife Service (Service) will assist in documenting existing conditions and assessing effects of project alternatives through the Fish and Wildlife Start Coordination Act consultation procedures. Other environmental review and consultation requirements for the proposed project include the need for Louisiana Department of Environmental Quality Clean Water Act Section 401water quality. In addition, because the proposed project may affect federally listed species, the USACE will consult with the Service and the National Marine Fisheries Service (NMFS) in accordance with Endangered Species Act, Section 7. The NMFS will be consulted regarding the effects of this proposed project on Essential Fish Habitat per the Magnuson-Stevens Act. The USACE will also be consulting with the State Historic Preservation Officer under Section 106 of the National Historic Preservation Act concerning properties listed, or potentially eligible for listing. The USACE will also be coordinating with the Louisiana Department of Natural Resources for Coastal Zone Management Consistency per the Coastal Zone Management Act.

7. Availability. The Draft EIS (DEIS) is expected to be available for public comment and review no sooner than December 2019. At that time, a 45-day public review period will be provided for individuals and agencies to review and comment on the DEIS. All interested parties are encouraged to respond to this notice and provide a current address if they wish to be notified of the DEIS circulation.

Brenda S. Bowen,
Army Federal Register Liaison Officer.

[FR Doc. 2019-06353 Filed 4-1-19; 8:45 am]

BILLING CODE 3720-58-P